DEPARTMENT OF TRANSPORTATION

Federal Aviation Administration

14 CFR Part 39

[Docket No. FAA-2005-19473; Directorate Identifier 2004-CE-35-AD; Amendment 39-14146; AD 2005-13-09]

RIN 2120-AA64

Airworthiness Directives; GROB-WERKE Model G120A Airplanes

AGENCY: Federal Aviation Administration (FAA), DOT.

ACTION: Final rule; correction.

SUMMARY: This document makes a correction to Airworthiness Directive (AD) 2005-13-09, which published in the Federal Register on August 23, 2005 (70 FR 49184), and applies to certain GROB-WERKE Model G120A airplanes. AD 2005-13-09 requires replacement of the main landing gear (MLG) up-lock hook assembly. Current language in paragraph (e)(2) of AD 2005-13-09 incorrectly references the MLG up-lock assembly as “elevator and aileron hinge pins.” This AD corrects that paragraph to reference the appropriate part number MLG up-lock hook assembly.

DATES: The effective date of this AD (2005-13-09) remains July 26, 2005.

FOR FURTHER INFORMATION CONTACT: Karl Schletzbaum, Aerospace Engineer, ACE-112, Small Airplane Directorate, 901 Locust, Room 301, Kansas City, Missouri 64106; telephone: 816-329-4146; facsimile: 816-329-4090.

SUPPLEMENTARY INFORMATION:

Discussion

On August 15, 2005, the FAA issued AD 2005-13-09, Amendment 39-14146 (70 FR 49184, August 23, 2005), which applies to certain GROB-WERKE Model G120A airplanes.

AD 2005-13-09 requires replacement of the MLG up-lock hook assembly. Current language in paragraph (e)(2) of AD 2005-13-09 incorrectly references the MLG up-lock assembly as “elevator and aileron hinge pins.” This AD corrects that paragraph to reference the appropriate part number MLG up-lock hook assembly.

Need for the Correction

This correction is needed to ensure that reference to the MLG up-lock hook assembly part number is correct for future reference. All airplanes currently on the U.S. Register have the actions of AD 2005-13-09 incorporated.

Correction of Publication

Accordingly, the publication of August 23, 2005 (70 FR 49184), of Amendment 39-14146; AD 2005-13-09, which was the subject of FR Doc. 05'16440, is corrected as follows:

§ 39.13 [Corrected]

On page 49184, in § 39.13 [Amended], in paragraph (e)(2), replace the Current Text in the Actions column with the Replacement Text.

Current Text: “(2) For all serial numbers: Do not install any elevator and aileron hinge pins that are not part number SY991A hinge pins.”

Replacement Text: “(2) Do not install any MLG up-lock hook assembly that is not part number X03-0020-00-00.00/1 (or FAA-approved later part number that supersedes this part number).”

Action is taken herein to correct this reference in AD 2005-13-09 and to add this AD correction to § 39.13 of the Federal Aviation Regulations (14 CFR 39.13).

The effective date remains July 26, 2005.

Issued in Kansas City, Missouri, on March 22, 2006.
William J. Timberlake,
Acting Manager, Small Airplane Directorate, Aircraft Certification Service.

[FR Doc. 06-2983 Filed 3-28-06; 8:45 am]

BILLING CODE 4910-13-P